DEPARTMENT OF COMMERCE

International Trade Administration

[A-421-811]

Purified Carboxymethylcellulose From the Netherlands: Extension of Time Limit for Preliminary Results of Antidumping Duty Administrative Review

AGENCY: Import Administration, International Trade Administration, Department of Commerce.

DATES: Effective Date: April 1, 2011.

FOR FURTHER INFORMATION CONTACT: Dena Crossland, Brian Davis, or Angelica Mendoza, Office 7, AD/CVD Operations, Import Administration, International Trade Administration, U.S. Department of Commerce, 14th Street and Constitution Avenue, NW., Washington, DC 20230, telephone: (202) 482-3362, (202) 482-7924, or (202) 482-3019, respectively.

SUPPLEMENTARY INFORMATION:

Background

On August 31, 2010, the Department of Commerce (the Department) published in the Federal Register a notice of initiation of the administrative review of the antidumping duty order on purified carboxymethylcellulose (CMC) from the Netherlands. See Initiation of Antidumping and Countervailing Duty Administrative Reviews and Deferral of Initiation of Administrative Review, 75 FR 53274 (August 31, 2010). This review covers the period July 1, 2009, through June 30, 2010. The preliminary results for this administrative review are currently scheduled for April 2, 2011.

Extension of Time Limits for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend the 245 day time period for the preliminary results up to 365 days.

The Department has determined it is not practicable to complete this review within the statutory time limit because we require additional time to collect and analyze additional information regarding Akzo Nobel Functional Chemicals B.V.'s calculation of certain expenses, needed for our preliminary results. Accordingly, the Department is extending the time limit for completion of the preliminary results of this administrative review until no later than June 16, 2011, which is 320 days from the last day of the anniversary month of this order. We intend to issue the final results in this review no later than 120 days after publication of the preliminary results.

This notice is issued and published in accordance with sections 751(a)(3)(A) and 777(i) of the Act.

Dated: March 25, 2011.
Christian Marsh,
Deputy Assistant Secretary for Antidumping and Countervailing Duty Operations.

[FR Doc. 2011-7790 Filed 3-31-11; 8:45 am]

BILLING CODE 3510-DS-P